DEPARTMENT OF THE INTERIOR

Bureau of Reclamation

Draft Environmental Impact Report/Environmental Impact Statement/Environmental Impact Statement, Upper Truckee River and Marsh Restoration Project, El Dorado County, California

AGENCY: Bureau of Reclamation, Interior.

ACTION: Notice of availability and notice of public hearings.

SUMMARY: The Bureau of Reclamation has made available for public review and comment the draft Environmental Impact Report/Environmental Impact Statement/Environmental Impact Statement (EIR/EIS/EIS) for the Upper Truckee River Restoration and Marsh Restoration Project (Project). The California Tahoe Conservancy and the Tahoe Regional Planning Agency, the other lead agencies for the Project, made the EIR/EIS/EIS available to the public on February 8, 2013.

DATES: Submit written comments on the draft EIR/EIS/EIS on or before April 29, 2013.

Two public hearings will be held at 9:30 a.m. on Wednesday, March 13, 2013 and Wednesday, March 27, 2013 in Stateline, Nevada, to receive oral and written comments regarding the Project's environmental effects.

ADDRESSES: Send written comments on the draft EIR/EIS/EIS to Scott Carroll, Environmental Planner, State of California, California Tahoe Conservancy, 1061 Third Street, South Lake Tahoe, CA 96150; by fax to 530-542-5567; or by email to scarroll@tahoe.ca.gov. Emailed comments are preferred. See SUPPLEMENTARY INFORMATION section for directions on how to prepare email comments for the Project.

The public hearings will be held at 128 Market Street, Stateline, Nevada.

The draft EIR/EIS/EIS is accessible at the following Web sites: http://tahoe.ca.gov/upper-truckee-marsh-69.aspx. http://www.usbr.gov/mp/nepa/nepa_projdetails.cfm?Project_ID=2937.

Compact disks are also available upon request from the California Tahoe Conservancy at scarroll@tahoe.ca.gov.

See SUPPLEMENTARY INFORMATION Section for location where copies of the draft EIR/EIS/EIS are available for public review.

FOR FURTHER INFORMATION CONTACT: Scott Carroll, California Tahoe Conservancy, at 530-543-6062; or Adam Lewandowski, Tahoe Regional Planning Agency; and Myrnie Mayville, Bureau of Reclamation, both at 775-588-4547.

SUPPLEMENTARY INFORMATION: The purpose of the Project is to restore natural geomorphic processes and ecological functions in this lowest reach of the Upper Truckee River and the surrounding marsh to improve ecological values of the restoration area and help reduce the river's discharge of nutrients and sediment that diminish Lake Tahoe's clarity.

The approximately 592-acre study area is along the most downstream reaches of the Upper Truckee River and Trout Creek, including their mouths at Lake Tahoe in the City of South Lake Tahoe, within El Dorado County, California. It includes 1.8-miles of the Upper Truckee River as well as the marsh and meadows surrounding the lowest reaches of Trout Creek. The majority of the study area is owned by the California Tahoe Conservancy though the study area does include small areas owned by other public agencies and private landowners.

Four action alternatives (Alternatives 1-4), and the No-Project/No-Action Alternative (Alternative 5), are analyzed in the draft EIR/EIS/EIS. Alternative 1 would involve restoration of the Upper Truckee River by increasing channel length and decreasing channel capacity. Alternative 2 would involve river restoration by directly raising the streambed elevation, increasing the channel length, and decreasing channel capacity. A key element of this restoration would be the excavation of a new river channel that has less capacity than the existing channel. Alternative 3 would promote the development, through natural processes, of a new main channel and/or distributary channels in the central portion of the study area. A “pilot” channel would be constructed from the existing river channel to historical channels in the center of the study area, but no construction would occur in the central or northern portions of the study area. Rather, natural processes would be allowed to dictate the flow path(s), bed and bank elevations, and capacities of the channel(s) through the central and northern portions of the study area. Alternative 4 would restore the river channel and its connection to the floodplain by lowering bank heights by excavating an inset floodplain along much of the river channel, and by localized cut and fill to create meanders in the existing straightened reach. Alternative 5 would not provide any actions to restore the river channel and its connection to the floodplain in the study area. This alternative would allow, but not facilitate the long-term, passive recovery of the river system via natural processes. This alternative represents a projection of reasonably foreseeable future conditions that could occur if no project actions were implemented.

Significant or Adverse Environmental Effects Anticipated

Alternative 1 would involve restoration of the Upper Truckee River by increasing channel length and decreasing channel capacity. Implementation of Alternative 1 would result in short-term project and cumulative construction impacts to sensitive communities (jurisdictional wetlands, riparian vegetation, and Stream Environment Zone); disruption of wildlife habitat use and loss of wildlife; and potential risk of surface water degradation during construction and the interim adjustment period thereafter.

Implementing Alternative 1 would provide the maximum recreation elements, but in turn would result in additional significant and unavoidable project-related impacts including damage to or mortality of special-status plants resulting from recreational activities; conflicts with regional conservation strategies for Tahoe yellow cress; operation and expansion of recreation facilities having an adverse physical effect on the environment; and degradation of the scenic quality of shoreline and mapped scenic resources related to the Upper Truckee River bridge.

Implementing Alternative 2 would involve river restoration by directly raising the streambed elevation, increasing the channel length, and decreasing channel capacity by excavation of a new river channel that has less capacity than the existing channel. This alternative would result in the same significant and unavoidable project-related and cumulative impacts discussed above for Alternative 1.

Alternative 3 would allow natural processes to dictate the flow path(s), bed and bank elevations, and capacities of the channel(s) through portions of the study area and would result in the same significant and unavoidable project-related and cumulative impacts discussed above for Alternative 1, as well as potentially resulting in long-term disruption of fish passage and migration patterns as the channel adjusts.

Implementing Alternative 4 would require excavating an inset floodplain along much of the river channel. This alternative would result in the same significant and unavoidable project-related and cumulative impacts discussed above for Alternative 1. Alternative 5 (No-Project/No-Action) would allow, but not facilitate the long-term, passive recovery of the river system by natural processes; therefore, this alternative would not result in any significant and unavoidable impacts.

Beneficial Effects

Implementing Alternative 1 would result in long-term enhancement and creation of jurisdictional wetlands, riparian vegetation, and Stream Environment Zone habitats resulting from restoration and enhancement elements. Alternative 1 would have beneficial project related and cumulative effects on hydrologic/hydraulic processes from reconfiguration of stream channels and lagoon surface water features. Project and cumulative beneficial effects would include decreased erosion along the Upper Truckee River, increased overbank flooding for small streamflow events and associated retention of fine sediment and nutrients, and groundwater level improvements within the study area.

Alternative 2 would result in the same project-related and cumulative beneficial effects as discussed above for Alternative 1. In addition, implementing Alternative 2 would result in long-term beneficial effects on common or special-status wildlife resources and a decrease in recreational conflicts in the core habitat area. Alternative 1 would also have these benefits, however to a lesser extent than other action alternatives.

Implementation of Alternative 3 would result in the same project-related and cumulative beneficial effects as discussed above for Alternative 2.

Alternative 4 would result in the same project-related and cumulative beneficial effects as discussed above for Alternative 2.

Alternative 5 (No-Project/No-Action) would allow, but not facilitate the long-term, passive recovery of the river system by natural processes; therefore, this alternative would not directly result in any beneficial effects.

A preferred or proposed alternative has not yet been defined. Following receipt and evaluation of public comments on the draft EIR/EIS/EIS, the lead agencies will determine which alternative or combinations of features from multiple alternatives will become the proposed action. A discussion of the decision will be included in the final EIR/EIS/EIS. A summary description of the alternatives is presented below. The detailed description of each alternative is presented in Chapter 2 of the draft EIR/EIS/EIS.

The draft EIR/EIS/EIS is being distributed to interested agencies, stakeholder organizations, and individuals. This distribution ensures that interested parties have an opportunity to express their views regarding the environmental effects of the Project, and to ensure that information pertinent to permits and approvals is provided to decision makers for the lead agencies.

For comments provided via email, please utilize the following format:

Email to: scarroll@tahoe.ca.gov

Subject Line: Upper Truckee River and Marsh Restoration Project draft EIR/EIS/EIS directions:

(1) Attach comments in an MS Word document.

(2) Include commenter's U.S. Postal Service mailing address in MS Word.

All comments will be distributed by the California Tahoe Conservancy to the Tahoe Regional Planning Agency and the Bureau of Reclamation.

Hearing Process and Distribution Information

The California Tahoe Conservancy, Bureau of Reclamation, and Tahoe Regional Planning Agency will conduct a public hearing on the draft EIR/EIS/EIS. It is not necessary to provide testimony during the public hearing; comments on the draft EIR/EIS/EIS will be accepted throughout the meeting and will be recorded at the public comment table. Comments may also be submitted throughout the comment period as described above. Once all comments have been assembled and reviewed, responses will be prepared to address significant environmental issues that have been raised in the comments.

Copies of the draft EIR/EIS/EIS are available for public review at the following locations:

• State of California, California Tahoe Conservancy, 1061 Third Street, South Lake Tahoe, CA 96150

• Tahoe Regional Planning Agency front desk, 128 Market Street, Stateline, NV 89449.

• Mid-Pacific Regional Library, Bureau of Reclamation, 2800 Cottage Way, Sacramento, CA 95825.

• Natural Resources Library, Department of the Interior, 1849 C Street NW., Main Interior Building, Washington, DC 20240-0001.

Special Assistance for the Public Hearing

If special assistance is required to participate in the public hearing, please contact Marja Ambler at 775-589-5287, or via email at mambler@trpa.org. Please notify Marja Ambler as far in advance as possible to enable the Bureau of Reclamation to secure the needed services. If a request cannot be honored, the requestor will be notified. A telephone device for the hearing impaired (TDD) is available at 916-978-5608.

Public Disclosure

Before including your address, phone number, email address, or other personal identifying information in your comment, you should be aware that your entire comment—including your personal identifying information—may be made publicly available at any time. While you may ask us in your comment to withhold your personal identifying information from public review, we cannot guarantee that we will be able to do so.

Dated: February 12, 2013.
Pablo R. Arroyave,
Deputy Regional Director, Mid-Pacific Region.

[FR Doc. 2013-04334 Filed 2-25-13; 8:45 am]

BILLING CODE 4310-MN-P